POSTAL REGULATORY COMMISSION

39 CFR Part 3010

[Docket No. RM2022-4; Order No. 6141]

RIN 3211-AA31

Rules of Practice and Procedure

AGENCY: Postal Regulatory Commission.

ACTION: Proposed rulemaking.

SUMMARY: The Commission is proposing to add rules which revise the Commission's rules of practice and procedure regarding notices, motions, and information requests. The Commission invites public comment on the proposed rules.

DATES: Comments are due: May 26, 2022.

ADDRESSES: For additional information, Order No. 6141 can be accessed electronically through the Commission's website at https://www.prc.gov. Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Relevant Statutory Requirements

II. Background

III. Basis and Purpose of Proposed Rules

IV. Proposed Rules

I. Relevant Statutory Requirements

Pursuant to 39 U.S.C. 503, the Commission establishes this rulemaking docket to propose amendments to the Commission's rules of practice and procedure regarding notices, motions, and information requests.

II. Background

The proposed amendments provide rules relating to motions for reconsideration of final Commission orders.¹

¹ Motions for review of other Commission determinations may be filed in accordance with 39 CFR 3010.160.

III. Basis and Purpose of Proposed Rules

The proposed amendments revise the Commission's rules on notices, motions, and information requests, within its rules of practice and procedure, to provide rules specific to motions for reconsideration. The proposed amendments reflect the Commission's current practice of hearing timely motions for reconsideration of its final orders.

Under the proposed rules, any party may file a motion for reconsideration of a Commission final order within 15 days of the issuance of the order subject to the motion. All motions for reconsideration must briefly and specifically allege material errors of fact or law, and the relief sought, and must be confined to new questions raised by the determination or action ordered and upon which the moving party had no prior opportunity to submit arguments. Finally, no motion for reconsideration shall stay the effect of an order of the Commission unless the Commission orders otherwise.

IV. Proposed Rules

Proposed § 3010.165(a). Proposed § 3010.165(a) is added to explain eligibility among parties for filing motions for reconsideration.

Proposed § 3010.165(b). Proposed § 3010.165(b) is added to clarify the timing and content requirements for motions for reconsideration.

Proposed § 3010.165(c). Proposed § 3010.165(c) is added to explain that motions for reconsideration do not, on their own, stay the effect of the underlying order.

List of Subjects in 39 CFR Part 3010

Administrative practice and procedure, Confidential business information, Freedom of information, Sunshine Act.

Erica A. Barker,
Secretary.

For the reasons stated in the preamble, the Commission proposes to amend chapter III of title 39 of the Code of Federal Regulations as follows:

PART 3010—RULES OF PRACTICE AND PROCEDURE

1. The authority citation for part 3010 continues to read as follows:

Authority: 39 U.S.C. 404(d); 503; 504; 3661.

2. Add § 3010.165 to read as follows:

§ 3010.165 Motions for reconsideration.

(a) Any person may file a motion requesting reconsideration of a final order by the Commission.

(b) The motion shall be filed within 15 days of the issuance of the final order that is the subject of the motion and must:

(1) Briefly and specifically allege material errors of fact or law and the relief sought; and

(2) Be confined to new questions raised by the determination or action ordered and upon which the moving party had no prior opportunity to submit arguments.

(c) Unless the Commission orders otherwise, the filing of a motion for reconsideration shall not stay the effect of an order of the Commission.

[FR Doc. 2022-07725 Filed 4-8-22; 8:45 am]

BILLING CODE 7710-FW-P